DEPARTMENT OF HOMELAND SECURITY

Federal Emergency Management Agency

44 CFR Part 67

[Docket ID FEMA-2012-0003]

Final Flood Elevation Determinations

AGENCY: Federal Emergency Management Agency, DHS.

ACTION: Final rule.

SUMMARY: Base (1% annual-chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated in the table below.

ADDRESSES: The final BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: The Federal Emergency Management Agency (FEMA) makes the final determinations listed below for the modified BFEs for each community listed. These modified elevations have been published in newspapers of local circulation and ninety (90) days have elapsed since that publication. The Deputy Associate Administrator for Mitigation has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground ‸ Elevation in feet (LTD) Modified | Communities affected
Maui County, Hawaii
Docket No.: FEMA-B-1158
Pacific Ocean (entire shoreline of the Island of Lanai) | Approximately 1.5 miles northwest of the intersection of Kaumalapau Highway and Lanai Rock Quarry Road | ‸ 3 | Maui County.
| Approximately 1.1 miles southwest of the intersection of Hulopoe Drive and Mauna Lei Drive | ‸ 55
Pacific Ocean—Island of Maui | Southeast corner of the Island of Maui, approximately 670 feet southwest of the intersection of Honoapiilani Highway and Keawe Street | ‸ 4 | Maui County.
| Northwest corner of the Island of Maui, approximately 1.7 miles southwest of the intersection of Piilani Highway and Kaupo Gap Road | ‸ 79
Shallow Flooding (Island of Maui) | Approximately 0.9 mile northwest of Apole Point | # 2 | Maui County.
Shallow Flooding (Island of Maui) | Approximately 0.7 mile northwest of Apole Point | # 2 | Maui County.
* National Geodetic Vertical Datum.
+ North American Vertical Datum.
# Depth in feet above ground.
‸ Elevation in feet (LTD).
ADDRESSES
Maui County
Maps are available for inspection at the Maui County Planning Department, 250 South High Street, 2nd Floor, Wailuku, HI 96793.
Cumberland County, Kentucky, and Incorporated Areas
Docket No.: FEMA-B-1043
Bear Creek (backwater effects from Cumberland River) | From the Cumberland River confluence to approximately 0.9 mile upstream of the Cumberland River confluence | +551 | Unincorporated Areas of Cumberland County.
Big Renox Creek (backwater effects from Cumberland River) | From the Cumberland River confluence to approximately 0.8 mile upstream of the Cumberland River confluence | +556 | Unincorporated Areas of Cumberland County.
Big Whetstone Creek (backwater effects from Cumberland River) | From the Cumberland River confluence to approximately 0.5 mile upstream of the Cumberland River confluence | +562 | Unincorporated Areas of Cumberland County.
Big Willis Creek (backwater effects from Cumberland River) | From the Cumberland River confluence to approximately 1.5 miles upstream of the Cumberland River confluence | +563 | Unincorporated Areas of Cumberland County.
Brush Creek (backwater effects from Cumberland River) | From the Cumberland River confluence to approximately 0.6 mile upstream of the Cumberland River confluence | +558 | Unincorporated Areas of Cumberland County.
Carter Branch West (backwater effects from Cumberland River) | From the Cumberland River confluence to approximately 0.6 mile upstream of the Cumberland River confluence | +540 | Unincorporated Areas of Cumberland County.
Casey Branch (backwater effects from Dale Hollow Lake) | From the Dale Hollow Lake confluence to approximately 0.5 mile upstream of the Dale Hollow Lake confluence | +663 | Unincorporated Areas of Cumberland County.
Cedar Creek North (backwater effects from Cumberland River) | From the Cumberland River confluence to approximately 0.7 mile upstream of the Cumberland River confluence | +552 | Unincorporated Areas of Cumberland County.
Clover Creek (backwater effects from Cumberland River) | From the Cumberland River confluence to approximately 0.4 mile upstream of the Cumberland River confluence | +550 | Unincorporated Areas of Cumberland County.
Cumberland River | Approximately 3,300 feet downstream of the Judio Creek confluence | +533 | City of Burkesville, Unincorporated Areas of Cumberland County.
| Approximately 1,500 feet upstream of the Crow Creek confluence | +568
Cumberland River Tributary 32 (backwater effects from Cumberland River) | From the Cumberland River confluence to approximately 0.6 mile upstream of the Cumberland River confluence | +555 | Unincorporated Areas of Cumberland County.
Cumberland River Tributary 55 (backwater effects from Cumberland River) | From the Cumberland River confluence to approximately 1,900 feet upstream of the Cumberland River confluence | +541 | Unincorporated Areas of Cumberland County.
Cumberland River Tributary 57 (backwater effects from Cumberland River) | From the Cumberland River confluence to approximately 0.6 mile upstream of the Cumberland River confluence | +540 | Unincorporated Areas of Cumberland County.
Dale Hollow Lake (Obey River) | Entire shoreline within community | +663 | Unincorporated Areas of Cumberland County.
Fanny's Creek (backwater effects from Dale Hollow Lake) | From the Dale Hollow Lake confluence to approximately 1,400 feet upstream of the Dale Hollow Lake confluence | +633 | Unincorporated Areas of Cumberland County.
Galloway Creek (backwater effects from Cumberland River) | From the Cumberland River confluence to approximately 0.5 mile upstream of the Cumberland River confluence | +544 | Unincorporated Areas of Cumberland County.
Galloway Creek Tributary 3 (backwater effects from Cumberland River) | From the Galloway Creek confluence to approximately 1,400 feet upstream of the Galloway Creek confluence | +544 | Unincorporated Areas of Cumberland County.
Goose Creek (backwater effects from Cumberland River) | From the Cumberland River confluence to approximately 0.9 mile upstream of the Cumberland River confluence | +555 | Unincorporated Areas of Cumberland County.
Haggard Branch (backwater effects from Cumberland River) | From the Cumberland River confluence to approximately 0.9 mile upstream of the Cumberland River confluence | +547 | Unincorporated Areas of Cumberland County.
Hendricks Creek (backwater effects from Dale Hollow Lake) | From the Dale Hollow Lake confluence to approximately 600 feet upstream of the Dale Hollow Lake confluence | +663 | Unincorporated Areas of Cumberland County.
Hoot Branch (backwater effects from Dale Hollow Lake) | From the Dale Hollow Lake confluence to approximately 950 feet upstream of the Dale Hollow Lake confluence | +663 | Unincorporated Areas of Cumberland County.
Hoot Branch Tributary 1 (backwater effects from Dale Hollow Lake) | From the Hoot Branch confluence to approximately 1,000 feet upstream of the Hoot Branch confluence | +663 | Unincorporated Areas of Cumberland County.
Judio Creek (backwater effects from Cumberland River) | From the Cumberland River confluence to approximately 0.7 mile upstream of the Cumberland River confluence | +533 | Unincorporated Areas of Cumberland County.
Lewis Creek (backwater effects from Cumberland River) | From the Cumberland River confluence to approximately 1.6 miles upstream of the Cumberland River confluence | +554 | Unincorporated Areas of Cumberland County.
Lewis Creek Tributary 5 (backwater effects from Cumberland River) | From the Lewis Creek confluence to approximately 1,200 feet upstream of the Lewis Creek confluence | +554 | City of Burkesville, Unincorporated Areas of Cumberland County.
Little Whetstone Creek (backwater effects from Cumberland River) | From the Cumberland River confluence to approximately 0.5 mile upstream of the Cumberland River confluence | +562 | Unincorporated Areas of Cumberland County.
Little Willis Creek (backwater effects from Cumberland River) | From the Big Willis Creek confluence to approximately 0.7 mile upstream of the Big Willis Creek confluence | +563 | Unincorporated Areas of Cumberland County.
Little Willis Creek Tributary 1 (backwater effects from Cumberland River) | From the Little Willis Creek confluence to approximately 800 feet upstream of the Little Willis Creek confluence | +563 | Unincorporated Areas of Cumberland County.
Marrowbone Creek (backwater effects from Cumberland River) | From the Cumberland River confluence to approximately 1,200 feet upstream of the Cumberland River confluence | +547 | Unincorporated Areas of Cumberland County.
Mud Camp Creek (backwater effects from Cumberland River) | From the Cumberland River confluence to approximately 1.1 miles upstream of the Cumberland River confluence | +539 | Unincorporated Areas of Cumberland County.
Otter Creek (backwater effects from Cumberland River) | From the Cumberland River confluence to approximately 0.5 mile upstream of the Cumberland River confluence | +551 | Unincorporated Areas of Cumberland County.
Perry Cary Hollow (backwater effects from Cumberland River) | From the Cumberland River confluence to approximately 1,600 feet upstream of the Cumberland River confluence | +534 | Unincorporated Areas of Cumberland County.
Potters Creek (backwater effects from Cumberland River) | From the Cumberland River confluence to approximately 0.7 mile upstream of the Cumberland River confluence | +545 | Unincorporated Areas of Cumberland County.
Raft Creek (backwater effects from Cumberland River) | From the Cumberland River confluence to approximately 0.4 mile upstream of the Cumberland River confluence | +551 | Unincorporated Areas of Cumberland County.
Riddle Prong (backwater effects from Dale Hollow Lake) | From the Dale Hollow Lake confluence to approximately 0.6 mile upstream of the Dale Hollow Lake confluence | +663 | Unincorporated Areas of Cumberland County.
Sulphur Creek (backwater effects from Dale Hollow Lake) | From the Dale Hollow Lake confluence to approximately 0.6 mile upstream of the Dale Hollow Lake confluence | +663 | Unincorporated Areas of Cumberland County.
Williams Creek (backwater effects from Dale Hollow Lake) | From the Dale Hollow Lake confluence to approximately 0.5 mile upstream of the Dale Hollow Lake confluence | +633 | Unincorporated Areas of Cumberland County.
* National Geodetic Vertical Datum.
+ North American Vertical Datum.
# Depth in feet above ground.
‸ Mean Sea Level, rounded to the nearest 0.1 meter.
ADDRESSES
City of Burkesville
Maps are available for inspection at City Hall, 214 Upper River Street, Burkesville, KY 42717.
Unincorporated Areas of Cumberland County
Maps are available for inspection at the Cumberland County Courthouse, 600 Courthouse Square, Burkesville, KY 42717.
Grayson County, Kentucky, and Incorporated Areas
Docket Nos.: FEMA-B-1098 and FEMA-B-1210
Ashcraft Branch (backwater effects from Rough River Lake) | From the confluence with Rough River Lake to approximately 1,525 feet upstream of the confluence with Rough River Lake | +524 | Unincorporated Areas of Grayson County.
Big Run Branch (backwater effects from Rough River Lake) | From the confluence with Rough River Lake to approximately 1,805 feet downstream of the confluence with Big Run Branch Tributary 7 | +524 | Unincorporated Areas of Grayson County.
Browns Creek (backwater effects from Rough River) | From the confluence with the Rough River to approximately 0.4 mile downstream of Olaton Road | +427 | Unincorporated Areas of Grayson County.
Buck Creek (backwater effects from Caney Creek) | From the confluence with Caney Creek to approximately 675 feet upstream of the confluence with Buck Creek | +467 | Unincorporated Areas of Grayson County.
Caney Fork | At the confluence with North Fork | +427 | City of Caneyville, Unincorporated Areas of Grayson County.
| Approximately 875 feet downstream of North Main Street | +471
Cave Creek (backwater effects from Rough River Lake) | From the confluence with Rough River Lake to approximately 0.6 mile upstream of the confluence with Cave Creek | +524 | Unincorporated Areas of Grayson County.
Conoloway Creek (backwater effects from Nolin Lake) | From the confluence with Nolin Lake to approximately 1,510 feet upstream of Huffman Road | +560 | Unincorporated Areas of Grayson County.
Diamond Branch (backwater effects from Rough River) | From the confluence with the Rough River to approximately 0.8 mile upstream of the confluence with the Rough River | +439 | Unincorporated Areas of Grayson County.
Grindstone Fork (backwater effects from Nolin Lake) | From the confluence with Nolin Lake to approximately 1.6 miles upstream of the confluence with Nolin Lake | +560 | Unincorporated Areas of Grayson County.
Hunting Fork (backwater effects from Nolin Lake) | From the confluence with Nolin Lake to approximately 0.5 mile upstream of Iberia Road | +560 | Unincorporated Areas of Grayson County.
Jarrett Fork (backwater effects from Caney Creek) | From the confluence with Caney Creek to approximately 895 feet downstream of Walnut Grove Road | +467 | Unincorporated Areas of Grayson County.
Laurel Branch (backwater effects from Rough River Lake) | From the confluence with the Rough River Lake to approximately 370 feet upstream of Clifty Church Drive | +524 | Unincorporated Areas of Grayson County.
Little Clifty Creek (backwater effects from Rough River Lake) | From the confluence with the Rough River Lake to approximately 1,220 feet upstream of the confluence with Little Clifty Creek Tributary 12 | +524 | Unincorporated Areas of Grayson County.
Little Short Creek (backwater effects from Rough River) | From the confluence with the Rough River to approximately 200 feet upstream of Lone Hill Road | +438 | Unincorporated Areas of Grayson County.
Long Spring Branch (backwater effects from Rough River) | From the confluence with the Rough River to approximately 0.6 mile upstream of the confluence with the Rough River | +430 | Unincorporated Areas of Grayson County.
Mistaken Creek (backwater effects from Rough River) | From the confluence with the Rough River to approximately 5.0 miles upstream of Olaton Road | +433 | Unincorporated Areas of Grayson County.
Nolin Lake | Entire shoreline | +560 | Unincorporated Areas of Grayson County.
Nolin River (backwater effects from Nolin Lake) | From the confluence with Nolin Lake to approximately 0.7 mile upstream of the confluence with Nolin Lake | +560 | Unincorporated Areas of Grayson County.
North Fork | Approximately 1,000 feet upstream of the confluence with South Fork | +472 | City of Caneyville, Unincorporated Areas of Grayson County.
| Approximately at the confluence with Caney Creek | +472
Person Branch (backwater effects from Nolin Lake) | From the confluence with Nolin Lake to approximately 1.2 miles upstream of the confluence with Nolin Lake | +560 | Unincorporated Areas of Grayson County.
Peter Cave Creek (backwater effects from Rough River Lake) | From the confluence with Rough River Lake to approximately 0.5 mile upstream of the confluence with Rough River Lake | +524 | Unincorporated Areas of Grayson County.
Pleasant Run (backwater effects from Rough River) | From the confluence with the Rough River to approximately 1.6 miles upstream of the confluence with the Rough River | +445 | Unincorporated Areas of Grayson County.
Rock Creek (backwater effects from Nolin Lake) | From the confluence with Nolin Lake to approximately 500 feet upstream of Horntown Road | +560 | Unincorporated Areas of Grayson County.
Rock Creek Tributary 14 (backwater effects from Nolin Lake) | From the confluence with Rock Creek to approximately 0.6 mile upstream of the confluence with Rock Creek | +560 | Unincorporated Areas of Grayson County.
Rock Creek Tributary 15 (backwater effects from Nolin Lake) | From the confluence with Nolin Lake to just downstream of Left Fork of Rock Creek Road | +560 | Unincorporated Areas of Grayson County.
Rough River | At the confluence with Browns Creek | +427 | Unincorporated Areas of Grayson County.
| Just downstream of Green Farms Road | +446
Rough River Lake | Entire shoreline | +524 | Unincorporated Areas of Grayson County.
Short Creek (backwater effects from Spring Fork) | From the confluence with Spring Fork to approximately 0.7 mile upstream of the confluence with Spring Fork | +438 | Unincorporated Areas of Grayson County,
South Barton Run (backwater effects from Nolin Lake) | From the confluence with Nolin Lake to approximately 1.0 mile upstream of the confluence with Nolin Lake | +560 | Unincorporated Areas of Grayson County.
South Fork (backwater effects from North Fork) | From the confluence with North Fork to approximately 925 feet upstream of the confluence with North Fork | +472 | City of Caneyville, Unincorporated Areas of Grayson County.
Spring Fork (backwater effects from Rough River) | From the confluence with the Rough River to just upstream of Owensboro Road | +438 | Unincorporated Areas of Grayson County.
Stones Hollow (backwater effects from Rough River Lake) | From the confluence with Rough River Lake to approximately 0.4 mile upstream of the confluence with Rough River Lake | +524 | Unincorporated Areas of Grayson County.
Taylor Fork | At the upstream side of Bloomington Road | +554 | Town of Leitchfield, Unincorporated Areas of Grayson County.
| Approximately 75 feet downstream of Wendell H. Ford-Western Kentucky Parkway | +560
Walter Creek (backwater effects from Rough River Lake) | From the confluence with the Rough River Lake to approximately 1,010 feet downstream of Duff Road | +524 | Unincorporated Areas of Grayson County.
West Cane Run (backwater effects from Caney Creek) | From the confluence with Caney Creek to approximately 1,900 feet upstream of the confluence with Caney Creek | +466 | Unincorporated Areas of Grayson County.
Wildcat Hollow (backwater effects from Rough River Lake) | From the confluence with Rough River Lake to approximately 1,680 feet upstream of the confluence with Rough River Lake | +524 | Unincorporated Areas of Grayson County.
* National Geodetic Vertical Datum.
+ North American Vertical Datum.
# Depth in feet above ground.
‸ Mean Sea Level, rounded to the nearest 0.1 meter.
ADDRESSES
City of Caneyville
Maps are available for inspection at City Hall, 104 North Main Street, Caneyville, KY 42721.
Town of Leitchfield
Maps are available for inspection at 314 West White Oak Street, Leitchfield, KY 42755.
Unincorporated Areas of Grayson County
Maps are available for inspection at 10 Public Square, Leitchfield, KY 42754.
George County, Mississippi, and Incorporated Areas
Docket No.: FEMA-B-1214
Black Creek | Approximately 1.7 miles downstream of State Route 57 | +39 | Unincorporated Areas of George County.
| Approximately 1.2 miles upstream of State Route 57 | +43
Chickasawhay River | At the Leaf River confluence | +59 | Unincorporated Areas of George County.
| Approximately 3.8 miles upstream of the Leaf River confluence | +61
Depot Creek | Approximately 1.0 mile downstream of Beaver Dam Road | +141 | City of Lucedale, Unincorporated Areas of George County.
| Approximately 1,140 feet upstream of Depot Road | +189
Indian Creek | Approximately 0.5 mile downstream of Grain Elevator Road | +38 | Unincorporated Areas of George County.
| Approximately 0.6 mile upstream of Grain Elevator Road | +56
Leaf River | At the Chickasawhay River confluence | +59 | Unincorporated Areas of George County.
| Approximately 3.1 miles upstream of the Chickasawhay River confluence | +60
Pascagoula River | Approximately 1.2 miles upstream of the Plum Bluff Cutoff confluence | +40 | Unincorporated Areas of George County.
| Approximately 1,690 feet upstream of Merrill Salem Road | +59
Red Creek | Approximately 1.8 miles downstream of Red Creek Road | +37 | Unincorporated Areas of George County.
| Approximately 2.9 miles upstream of Red Creek Road | +46
* National Geodetic Vertical Datum.
+ North American Vertical Datum.
# Depth in feet above ground.
‸ Mean Sea Level, rounded to the nearest 0.1 meter.
ADDRESSES
City of Lucedale
Maps are available for inspection at the City Clerk's Office, 5126 Main Street, Lucedale, MS 39452.
Unincorporated Areas of George County
Maps are available for inspection at the George County Courthouse, 355 Cox Street, Lucedale, MS 39452.
Osage County, Missouri, and Incorporated Areas
Docket No.: FEMA-B-1210
Baileys Creek (backwater effects from Missouri River) | From the Gasconade County boundary to approximately 2.07 miles upstream of the Gasconade County boundary | +530 | Unincorporated Areas of Osage County.
Bear Creek (backwater effects from Missouri River) | From the Maries River confluence to approximately 700 feet upstream of County Road 610 | +551 | Unincorporated Areas of Osage County.
Cadet Creek (backwater effects from Missouri River) | From the Osage River confluence to approximately 350 feet upstream of County Road 412 | +551 | Unincorporated Areas of Osage County.
Darrow Branch (backwater effects from Missouri River) | From the Loose Creek confluence to approximately 1,950 feet upstream of the Loose Creek confluence | +544 | Unincorporated Areas of Osage County.
Deer Creek (backwater effects from Missouri River) | From approximately 400 feet upstream of the Saint Aubert Creek confluence to approximately 1.99 miles upstream of State Route 100 | +540 | Unincorporated Areas of Osage County.
Dooling Creek (backwater effects from Missouri River) | From approximately 1,000 feet upstream of Missouri Avenue to approximately 750 feet downstream of State Highway K | +537 | City of Chamois, Unincorporated Areas of Osage County.
Indian Creek (backwater effects from Missouri River) | From the Maries River confluence to approximately 1,550 feet upstream of County Road 610 | +551 | Unincorporated Areas of Osage County.
Jaeger Creek (backwater effects from Missouri River) | From the Osage River confluence to approximately 0.56 mile upstream of the Osage River confluence | +551 | Unincorporated Areas of Osage County.
Loose Creek (backwater effects from Missouri River) | From the Missouri River confluence to approximately 1,250 feet upstream of the Darrow Branch confluence | +544 | Unincorporated Areas of Osage County.
Luzon Branch (backwater effects from Missouri River) | From the Missouri River confluence to approximately 1,800 feet upstream of County Road 416 | +550 | Unincorporated Areas of Osage County.
Maries River (backwater effects from Missouri River) | From the Osage River confluence to approximately 0.67 mile upstream of the Bear Creek confluence | +551 | Unincorporated Areas of Osage County.
Missouri River | At the Gasconade County boundary | +530 | City of Chamois, Unincorporated Areas of Osage County.
| At the Cole County boundary | +551
Osage River (backwater effects from Missouri River) | Approximately 9 miles upstream of U.S. Route 50 | +542 | Unincorporated Areas of Osage County.
| At the Missouri River confluence | +547
Owl Creek (backwater effects from Missouri River) | From approximately 0.78 mile downstream of County Road 435 to approximately 775 feet downstream of County Road 435 | +542 | Unincorporated Areas of Osage County.
Saint Aubert Creek (backwater effects from Missouri River) | From approximately 1.18 miles upstream of the Deer Creek confluence to approximately 1,350 feet downstream of County Road 435 | +541 | Unincorporated Areas of Osage County.
South Fork Cadet Creek (backwater effects from Missouri River) | From the Cadet Creek confluence to approximately 0.88 mile upstream of the Cadet Creek confluence | +551 | Unincorporated Areas of Osage County.
* National Geodetic Vertical Datum.
+ North American Vertical Datum.
# Depth in feet above ground.
‸ Mean Sea Level, rounded to the nearest 0.1 meter.
ADDRESSES
City of Chamois
Maps are available for inspection at City Hall, 200 South Main Street, Chamois, MO 65024.
Unincorporated Areas of Osage County
Maps are available for inspection at the Osage County Courthouse, 205 East Main Street, Linn, MO 65051.
Lewis and Clark County, Montana, and Incorporated Areas
Docket Nos.: FEMA-B-1010 and FEMA-B-1204
Silver Creek | Approximately 200 feet downstream of I-15 | +3695 | Unincorporated Areas of Lewis And Clark County.
| At Applegate Drive | +3765
Silver Creek Overflow (D2 Ditch) | Approximately 170 feet downstream of I-15 Frontage Road | +3687 | Unincorporated Areas of Lewis And Clark County.
| Approximately 0.38 mile upstream of North Montana Avenue | +3712
Silver Creek Overflow (Ryanns Lane) | Approximately 210 feet downstream of North Montana Avenue | +3710 | Unincorporated Areas of Lewis And Clark County.
| Approximately 75 feet upstream of North Montana Avenue | +3713
Tenmile Creek | Approximately 3,000 feet upstream of East Sierra Road | +3708 | City of Helena, Unincorporated Areas of Lewis And Clark County.
| Approximately 50 feet downstream of Blue Cloud Bridge | +4093
* National Geodetic Vertical Datum.
+ North American Vertical Datum.
# Depth in feet above ground.
‸ Mean Sea Level, rounded to the nearest 0.1 meter.
ADDRESSES
City of Helena
Maps are available for inspection at 316 North Park Avenue, Helena, MT 59623.
Unincorporated Areas of Lewis And Clark County
Maps are available for inspection at 221 Breckenridge Street, Helena, MT 59623.
Morgan County, Ohio, and Incorporated Areas
Docket No.: FEMA-B-1210
Bald Eagle Run (backwater effects from Muskingum River) | Approximately 0.5 mile east of Riverview Road (at the northern Village of Stockport corporate limit) | +653 | Village of Stockport.
| Approximately 1,000 feet east of Riverview Road (at the northern Village of Stockport corporate limit) | +653
Bell Creek | At the Muskingum River confluence | +665 | Unincorporated Areas of Morgan County, Village of McConnelsville.
| Approximately 0.8 mile upstream of North 7th Street | +740
Muskingum River | Approximately 0.4 mile downstream of State Route 266 | +651 | Village of Stockport.
| Approximately 1,600 feet upstream of State Route 266 | +653
Turkey Run (backwater effects from Muskingum River) | Approximately 300 feet east of East River Road (At the southern Village of Stockport corporate limit) | +651 | Village of Stockport.
* National Geodetic Vertical Datum.
+ North American Vertical Datum.
# Depth in feet above ground.
‸ Mean Sea Level, rounded to the nearest 0.1 meter.
ADDRESSES
Unincorporated Areas of Morgan County
Maps are available for inspection at the Reicker Building, 155 East Main Street, Room 208, McConnelsville, OH 43756.
Village of McConnelsville
Maps are available for inspection at 9 West Main Street, McConnelsville, OH 43756.
Village of Stockport
Maps are available for inspection at 1685 Broadway Street, Stockport, OH 43787.
Somerset County, Pennsylvania (All Jurisdictions)
Docket No.: FEMA-B-1130
Casselman River | Approximately 858 feet upstream of Robert Brown Road | +1333 | Township of Addison.
| Approximately 1.25 miles upstream of Robert Brown Road | +1386
Casselman River | Approximately 1.33 miles downstream of U.S. Route 219 (Mason Dixon Highway) | +1945 | Township of Summit.
| Approximately 540 feet downstream of Cuba Street | +1952
East Branch Coxes Creek | Approximately 473 feet upstream of the Pennsylvania Turnpike | +2107 | Township of Somerset.
| Approximately 593 feet upstream of the Pennsylvania Turnpike | +2107
Laurel Hill Creek | Approximately 0.43 mile upstream of the Park Street Bridge | +1330 | Township of Lower Turkeyfoot.
| Approximately 0.67 mile upstream of Park Street | +1332
Paint Creek | Approximately 688 feet downstream of Main Street | +1623 | Borough of Paint.
| Approximately 595 feet downstream of Main Street | +1629
Stonycreek River | Approximately 330 feet downstream of the confluence with Quemahoning Creek | +1543 | Borough of Benson.
| Approximately 140 feet upstream of the confluence with Quemahoning Creek | +1543
* National Geodetic Vertical Datum.
+ North American Vertical Datum.
# Depth in feet above ground.
‸ Mean Sea Level, rounded to the nearest 0.1 meter.
ADDRESSES
Borough of Benson
Maps are available for inspection at the Benson Borough Building, 118 Main Street, Hollsopple, PA 15935.
Borough of Paint
Maps are available for inspection at the Paint Borough Building, 2044 Centennial Drive, Windber, PA 15963.
Township of Addison
Maps are available for inspection at the Addison Township Building, 343 High Point Road, Fort Hill, PA 15540.
Township of Lower Turkeyfoot
Maps are available for inspection at the Lower Turkeyfoot Township Building, 2584 Jersey Hollow Road, Confluence, PA 15424.
Township of Somerset
Maps are available for inspection at the Township Building, 2209 North Center Avenue, Somerset, PA 15501.
Township of Summit
Maps are available for inspection at the Summit Township Office, 192 Township Office Road, Meyersdale, PA 15552.

(Catalog of Federal Domestic Assistance No. 97.022, “Flood Insurance.”)

Dated: August 1, 2012.
Sandra K. Knight,
Deputy Associate Administrator for Mitigation, Department of Homeland Security, Federal Emergency Management Agency.

[FR Doc. 2012-20146 Filed 8-15-12; 8:45 am]

BILLING CODE 9110-12-P